DEPARTMENT OF AGRICULTURE

Submission for OMB Review; Comment Request

June 24, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 29, 2015 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Peppers from Certain Central American Countries.

OMB Control Number: 0579-0274.

Summary of Collection: Under the Plant Protection Act (PPA) (7 U.S.C. 7701-7772), the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56-1 through 319.56-72). The fruits and vegetables regulations allow certain type of peppers grown in approved registered production sites in Costa Rica, El Salvador, Guatemala, Honduras, Nicaragua and Panama to be imported, under certain conditions, into the United States without treatment while continuing to provide protection against the introduction of quarantine pests into the United States.

Need and Use of the Information: The regulations require the use of information collection activities including inspections by Central American national plant protection organization officials, phytosanitary certificate, labeling of boxes, monitor traps, trapping records, bilateral workplan, production site registrations, and quality control program. If the information were not collected, it would cripple the Animal and Plant Health Inspection Service ability to regulate and prevent the importation or spread of plant pests and diseases from entering the United States.

Description of Respondents: Not-for-profit institutions; Federal Government.

Number of Respondents: 36.

Frequency of Responses: Recordkeeping; Reporting: On occasion.

Total Burden Hours: 4,554.

Animal and Plant Health Inspection Service

Title: Movement of Plants and Plant Products from Hawaii and the Territories (formerly, Revision of Hawaii and the Territories Fruits and Vegetables Regulations).

OMB Control Number: 0579-0346.

Summary of Collection: Under the Plant Protection Act (7 U.S.C. 7701), the Secretary of Agriculture is authorized to prohibit or restrict the importation, entry, or movement of fruits, vegetables, plants, and plant pests to prevent the introduction of pests or diseases into the United States, or dissemination of pests and diseases within the United States. The Animal and Plant Health Inspection Service (APHIS), Plant Protection and Quarantine (PPQ), is responsible for implementing this Act and does so through the enforcement of its Hawaiian and territorial quarantine regulations contained in Part 318 of Title 7, Code of Federal Regulations.

Need and Use of the Information: APHIS will use the following forms and activities to collect information: PPQ 530, PPQ 586, PPQ 519, PPQ 540, Labeling of Boxes for Pest Free Areas, Inspection and Certification, Trapping and Surveillance, Contingency Plans approved by APHIS, Updated Mapping Identifying Places Where Horticultural or Other Crops are Grown, Written Request for Facility Approval—and Recertification, Recordkeeping, and Decertification of Pest Free Areas—and Reinstatement. If APHIS did not collect this information or if APHIS collected this information less frequently, the spread of dangerous plant diseases and pests could cause millions of dollars in damage to U.S. agriculture.

Description of Respondents: Business or other for-profits; State, Local or Tribal Government.

Number of Respondents: 178.

Frequency of Responses: Recordkeeping; Reporting: On occasion.

Total Burden Hours: 7,660.

Ruth Brown,
Departmental Information Collection Clearance Officer.

[FR Doc. 2015-15897 Filed 6-26-15; 8:45 am]

BILLING CODE 3410-34-P